DEPARTMENT OF THE INTERIOR

Bureau of Land Management

[LLNMP01000-L5440000.EU000LVCLG15G5180]

Notice of Realty Action: Classification for Lease and Subsequent Conveyance for Recreation and Public Purposes of Public Land for an Elementary School, Socorro County, New Mexico

AGENCY: Bureau of Land Management, Interior.

ACTION: Notice of Realty Action.

SUMMARY: The Bureau of Land Management (BLM) has examined and found suitable for classification for lease and subsequent conveyance under the provisions of the Recreation and Public Purposes (R&PP) Act, as amended, approximately 60 acres of public land in San Antonio, Socorro County, New Mexico. The City of Socorro Consolidated School District proposes to use the land for a kindergarten through fifth grade elementary school.

DATES: Interested parties may submit written comments regarding the proposed classification of the land for lease and subsequent conveyance of the land, and the environmental assessment, until March 28, 2016.

ADDRESSES: Send written comments to the Bureau of Land Management Field Manager, Socorro Field Office, 901 South Highway 85, Socorro, NM 87801.

FOR FURTHER INFORMATION CONTACT: Virginia Alguire, 575-838-1290, or valguire@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Socorro Consolidated School District has filed an application to develop the following described land as an elementary school with related facilities adjacent to the existing San Antonio Elementary School. The parcel of public land is legally described as:

New Mexico Principal Meridian, New Mexico

T. 4 S., R. 1 E.,

Section 31: SE¼SE¼, and E½SW¼SE¼.

The area described contains approximately 60 acres, in Socorro County. Facilities of the school include classrooms, gymnasiums, parking lots, outdoor classrooms, fitness track, trails, etc. Enrollment is expected to be about 100 students. The construction of the new facilities would replace the original elementary school built in 1928. A fitness track and a portion of the current elementary school outbuilding were constructed on public land and are unauthorized. Issuance of the lease and/or subsequent conveyance would resolve this unauthorized use. Additional detailed information pertaining to this application, plan of development, and site plan is in case file NMNM-131595, which are located in the BLM Socorro Field Office at the above address. Environmental documents associated with the proposed action are available for review at the BLM Socorro Field Office, and on the web at: http://www.blm.gov/nm/st/en/fo/Socorro_Field_Office/socorro_nepa.html. The land is not required for any Federal purpose. The lease and subsequent conveyance are consistent with the BLM Socorro Resource Management Plan, approved August 2010, and would be in the public interest. The Socorro Consolidated School District is a political subdivision of the State of New Mexico, a qualified applicant under the R&PP Act, has not applied for more than the 640-acre limitation for public purpose uses in a year, and has submitted a statement in compliance with the regulations at 43 CFR 2741.4(b). The lease and subsequent conveyance of the public land shall be subject to valid existing rights. Subject to limitations prescribed by law and regulations, prior to patent issuance, a holder of any right-of-way within the lease area may be given the opportunity to amend the right-of-way for conversion to a new term, including perpetuity, if applicable. The lease and subsequent conveyance, if and when issued, will be subject to provisions of the R&PP Act and applicable regulations of the Secretary of the Interior, and will contain the following terms, conditions, and reservations to the United States:

1. A right-of-way thereon for ditches or canals constructed by the authority of the United States, Act of August 30, 1890 (43 U.S.C. 945);

2. All minerals shall be reserved to the United States, together with the right to prospect for, mine, and remove such deposits from the same under applicable law and such regulations as the Secretary of the Interior may prescribe;

3. All valid existing rights;

4. Powerline right-of-way NMNM 0467996 issued to the Socorro Electric Cooperative, its successors or assigns, pursuant to the Act of October 21, 1976 as amended (43 U.S.C. 1701);

5. An appropriate indemnification clause protecting the United States from claims arising out of the leasee/patentee use, occupancy, or operation of the property. It will also contain any other terms and conditions deemed necessary and appropriate by the Authorized Officer.

Upon publication of this notice in the Federal Register, the land described above will be segregated from all other forms of appropriation under the public land laws, including the general mining laws, except for lease and/or subsequent conveyance under the R&PP Act and leasing under the mineral leasing laws. Interested parties may submit written comments on the suitability of the land for a public school. Comments on the classification are restricted to whether the land is physically suited for the proposal, whether the use will maximize the future use or uses of the land, whether the use is consistent with local planning and zoning, or if the use is consistent with State and Federal programs. Interested parties may also submit written comments regarding the specific use proposed in the application and plan of development, and whether the BLM followed proper administrative procedures in reaching the decision to lease and/or convey under the R&PP Act. Any adverse comments will be reviewed by the BLM New Mexico State Director, who may sustain, vacate, or modify this realty action. In the absence of any adverse comments, the decision will become effective on April 11, 2016. Before including your address, phone number, email address, or other personal identifying information in your comment, you should be aware that your entire comment, including your personal identifying information, may be made publicly available at any time. While you can ask us in your comment to withhold your personal identifying information from public review, we cannot guarantee that we will be able to do so. Only written comments submitted to the Field Manager, BLM Socorro Field Office, will be considered properly filed.

(Authority: 43 CFR 2741.5)

Andrew Archuleta,
Acting Deputy State Director, Lands and Resources.

[FR Doc. 2016-02666 Filed 2-9-16; 8:45 am]

BILLING CODE 4310-FB-P